FEDERAL RESERVE SYSTEM

Formations of, Acquisitions by, and Mergers of Savings and Loan Holding Companies; Correction

This notice corrects a notice (FR Doc. 2011-24388) published on page 58812 of the issue for Thursday, September 22, 2011.

Under the Federal Reserve Bank of Philadelphia heading, the entry for Polonia MHC, Huntington, Valley, Pennsylvania, is revised to read as follows:

A. Federal Reserve Bank of Philadelphia (William Lang, Senior Vice President) 100 North 6th Street, Philadelphia, Pennsylvania 19105-1521:

1. Polonia MHC, Huntingdon Valley, Pennsylvania; to convert to stock form and merge with Polonia Bancorp, Inc., Baltimore, Maryland, which proposes to become a savings and loan holding company by acquiring Polonia Bank, Huntingdon Valley, Pennsylvania.

Comments on this application must be received by October 17, 2011.

Board of Governors of the Federal Reserve System, September 26, 2011.
Robert deV. Frierson,
Deputy Secretary of the Board.

[FR Doc. 2011-25093 Filed 9-28-11; 8:45 am]

BILLING CODE 6210-01-P